ENVIRONMENTAL PROTECTION AGENCY

40 CFR Part 52

[KY-123; KY-123-1; KY 137-200218(b); FRL-7169-8]

Approval and Promulgation of Implementation Plans: Kentucky: Nitrogen Oxides Budget and Allowance Trading Program

AGENCY: Environmental Protection Agency (EPA).

ACTION: Proposed rule.

SUMMARY: EPA is approving the State Implementation Plan (SIP) revision that was submitted by the Commonwealth of Kentucky (Kentucky) on January 31, 2002. This revision responds to EPA's regulation entitled, “Finding of Significant Contribution and Rulemaking for Certain States in the Ozone Transport Assessment Group Region for Purposes of Reducing Regional Transport of Ozone,” otherwise known as the “NOX SIP Call.” This revision establishes and requires nitrogen oxides (NOX) reduction requirements and an allowance trading program for large electric generating and industrial units, beginning in 2004. It also establishes and requires NOX reduction requirements for cement kilns beginning in 2004. The revision includes a budget demonstration and initial source allocations that clearly demonstrate that Kentucky will achieve the required NOX emission reductions in accordance with the timelines set forth in EPA's NOX SIP Call. The intended effect of this SIP revision is to reduce emissions of NOX in order to help attain the national ambient air quality standard for ozone. EPA is approving Kentucky's NOX Reduction and Trading Program because it meets the requirements of the Phase I NOX SIP Call that will significantly reduce ozone transport in the eastern United States.

EPA is also approving several revisions to existing regulation 401 KAR 51:001 (Definitions for 401 KAR Chapter 51) that do not address NOX SIP Call requirements, but fulfill other Kentucky statutory requirements. In the Final Rules Section of this Federal Register, the EPA is approving the Kentucky NOX SIP revision as a direct final rule without prior proposal because the Agency views this as a noncontroversial submittal and anticipates no adverse comments. A detailed rationale for the approval is set forth in the direct final rule. If no significant, material, and adverse comments are received in response to this rule, no further activity is contemplated. If EPA receives adverse comments, the direct final rule will be withdrawn and all public comments received will be addressed in a subsequent final rule based on this rule. The EPA will not institute a second comment period on this document. Any parties interested in commenting on this document should do so at this time.

DATES: Written comments must be received on or before May 13, 2002.

ADDRESSES: All comments should be addressed to: Sean Lakeman; Regulatory Development Section; Air Planning Branch; Air, Pesticides and Toxics Management Division; U.S. Environmental Protection Agency Region 4; 61 Forsyth Street, SW; Atlanta, Georgia 30303-8960. Copies of Kentucky's submittals and other information relevant to this action are available for inspection during normal business hours at the following addresses: Environmental Protection Agency, Region 4, Air Planning Branch, 61 Forsyth Street, SW., Atlanta, Georgia 30303-8960.

Commonwealth of Kentucky, Division for Air Quality, 803 Schenkel Lane, Frankfort, Kentucky, 40601-1403.

The interested persons wanting to examine these documents should make an appointment at least 24 hours before the visiting day and reference files KY-123, KY-123-1 and KY-137.

FOR FURTHER INFORMATION CONTACT: Sean Lakeman; Regulatory Development Section; Air Planning Branch; Air, Pesticides and Toxics Management Division; U.S. Environmental Protection Agency Region 4; 61 Forsyth Street, SW.; Atlanta, Georgia 30303-8960. Mr. Lakeman can also be reached by phone at (404) 562-9043 or by electronic mail at lakeman.sean@epa.gov.

SUPPLEMENTARY INFORMATION: For additional information see the direct final rule which is published in the Rules Section of this Federal Register.

Dated: April 1, 2002.
A. Stanley Meiburg,
Acting Regional Administrator, Region 4.

[FR Doc. 02-8684 Filed 4-10-02; 8:45 am]

BILLING CODE 6560-50-P